SMALL BUSINESS ADMINISTRATION

[Declaration of Disaster #3345]

State of West Virginia (Amendment #3)

In accordance with a notice received from the Federal Emergency Management Agency, dated July 5, 2001, the above-numbered Declaration is hereby amended to include Calhoun and Putnam Counties in the State of West Virginia as a disaster area caused by flooding, severe storms, and landslides beginning on May 15, 2001 and continuing.

In addition, applications for economic injury loans from small businesses located in Gilmer and Ritchie Counties in the State of West Virginia may be filed until the specified date at the previously designated location. Any counties contiguous to the above named primary counties and not listed here have been previously declared.

All other information remains the same, i.e., the deadline for filing applications for physical damage is August 2, 2001, and for loans for economic injury is March 4, 2002.

(Catalog of Federal Domestic Assistance Program Nos. 59002 and 59008)

Dated: July 9, 2001.
James E. Rivera,
Acting Associate Administrator for Disaster Assistance.

[FR Doc. 01-17540 Filed 7-12-01; 8:45 am]

BILLING CODE 8025-01-P